NUCLEAR REGULATORY COMMISSION

Sunshine Act; Meeting Notice

Agency Holding the Meetings: Nuclear Regulatory Commission.

DATES: Weeks of October 26, November 2, 9, 16, 23, 30, 2009.

Place: Commissioners' Conference Room, 11555 Rockville Pike, Rockville, Maryland.

Status: Public and Closed.

Week of October 26, 2009

There are no meetings scheduled for the week of October 26, 2009.

Week of November 2, 2009—Tentative

Tuesday, November 3, 2009

9:25 a.m. Affirmation Session (Public Meeting) (Tentative). Duke Energy Carolinas, LLC (William States Lee III Nuclear Station, Unit 1 and 2); Tennessee Valley Authority (Bellefonte Nuclear Plant, Units 3 and 4)—Referred Rulings on Contention Admissibility (Tentative).

This meeting will be Webcast live at the Web address— http://www.nrc.gov.

9:30 a.m. Briefing on Fire Protection Lessons Learned from Shearon Harris (Public Meeting). (Contact: Alex Klein, 301-415-2822.)

This meeting will be Webcast live at the Web address— http://www.nrc.gov.

Week of November 9, 2009—Tentative

Tuesday, November 10, 2009

9:30 a.m. Briefing on NRC International Activities (Public Meeting). (Contact: Karen Henderson, 301-415-0202.)

This meeting will be Webcast live at the Web address— http://www.nrc.gov.

Week of November 16, 2009—Tentative

Tuesday, November 17, 2009

9:30 a.m. Briefing on Equal Employment Opportunity (EEO) and Small Business Programs (Public Meeting). (Contact: Elva Bowden Berry, 301-415-1536.)

This meeting will be Webcast live at the Web address— http://www.nrc.gov.

Week of November 23, 2009—Tentative

There are no meetings scheduled for the week of November 23, 2009.

Week of November 30, 2009—Tentative

Tuesday, December 4, 2009

9:30 a.m. Meeting with the Advisory Committee on Reactor Safeguards (Public Meeting). (Contact: Antonio Dias, 301-415-6805.)

This meeting will be Webcast live at the Web address— http://www.nrc.gov.

*The schedule for Commission meetings is subject to change on short notice. To verify the status of meetings, call (recording)—(301) 415-1292. Contact person for more information: Rochelle Bavol, (301) 415-1651.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at rohn.brown@nrc.gov. Determinations on requests for reasonable accommodation will be made on a case-by-case basis.

This notice is distributed electronically to subscribers. If you no longer wish to receive it, or would like to be added to the distribution, please contact the Office of the Secretary, Washington, DC 20555 (301-415-1969), or send an e-mail to darlene.wright@nrc.gov.

Dated: October 22, 2009.
Rochelle C. Bavol,
Office of the Secretary.

[FR Doc. E9-25924 Filed 10-23-09; 4:15 pm]

BILLING CODE 7590-01-P